DEPARTMENT OF ENERGY

Federal Energy Regulatory Commission

[Docket Nos. EC03-114-000, et al.]

Connecticut Valley Electric Company Inc., Public Service Company of New Hampshire, et al.; Electric Rate and Corporate Filings

July 30, 2003.

The following filings have been made with the Commission. The filings are listed in ascending order within each docket classification.

1. Connecticut Valley Electric Company Inc., Public Service Company of New Hampshire; and Central Vermont Public Service Corporation

[Docket Nos. EC03-114-000 and ER03-1110-000]

Take notice that on July 22, 2003, Connecticut Valley Electric Company Inc., Public Service Company of New Hampshire, and Central Vermont Public Service Corporation, (collectively, Applicants), tendered for filing with the Federal Energy Regulatory Commission a joint application pursuant to Sections 203 and 205 of the Federal Power Act, seeking approvals and acceptances relating to the restructuring of Connecticut Valley Electric Company Inc. in New Hampshire.

Comment Date: August 12, 2003.

2. Condon Wind Power, LLC; SeaWest WindPower, Inc.; SeaWest Northwest Asset Holdings, LLC; The Goldman Sachs Group, Inc.

[Docket No. EC03-115-000]

Take notice that on July 24, 2003, Condon Wind Power, LLC (Condon Wind Power), SeaWest WindPower, Inc. (SeaWest), SeaWest Northwest Asset Holdings, LLC (SeaWest NAH) and The Goldman Sachs Group, Inc. (together the Applicants), filed with the Federal Energy Regulatory Commission a joint application pursuant to Section 203 of the Federal Power Act for authorization of an indirect disposition of jurisdictional facilities in connection with (1) An intra-corporate reorganization whereby SeaWest WindPower, a wholly-owned subsidiary of SeaWest Holdings, Inc. (SeaWest Holdings), will transfer one hundred percent of its membership interests in Condon Wind Power to another wholly-owned subsidiary of SeaWest Holdings and SeaWest NAH, and (2) the subsequent issuance of new non-managing membership interests in Condon Wind Power to a not-yet-existing subsidiary of The Goldman Sachs Group, Inc. and GS Wind Power I, LLC (GS Wind), in exchange for a capital contribution by GS Wind to Condon Wind Power. Condon Wind Power owns and operates a 49.8 megawatt wind power project located near Condon, Oregon. Applicants seek expedited review of the joint application and request confidential treatment of certain documents submitted therewith.

The Applicants state that a copy of the joint application was served upon the Public Utility Commission of Oregon and the Bonneville Power Administration.

Comment Date: August 14, 2003.

3. Fast Well Investments Limited

[Docket No. EG03-86-000]

Take notice that on July 25, 2003, Fast Well Investments Limited (FWI), with its principal office at Suite 1501-7, Harbour Centre, 25 Harbour Road, Wanchai, Hong Kong, filed with the Federal Energy Regulatory Commission (Commission) an application for determination of exempt wholesale generator status pursuant to part 365 of the Commission's regulations.

FWI states that it is a company organized under the laws of Malaysia and that it will be engaged, directly or indirectly through an affiliate as defined in Section 2(a)(11)(B) of the Public Utility Holding Company Act of 1935 (PUHCA), exclusively in owning, operating, or both owning and operating, a gas-fired electric generating facility with a total output of approximately 98 megawatts consisting of two combustion turbine generators, two heat recovery steam generators and one steam turbine generator and certain additional incidental facilities, located in Shuang Liu County, Chengdu, Sichuan, People's Republic of China. FWI states that it will, through an affiliate, sell electric energy at wholesale from the facility and may engage in other incidental activities with respect thereto consistent with PUHCA.

Comment Date: August 20, 2003.

4. Midwest Independent Transmission System Operator, Inc.

[Docket No. EL03-35-003]

Take notice that on July 28, 2003, Midwest Independent Transmission System Operator, Inc. (Midwest ISO) tendered for filing with the Federal Energy Regulatory Commission (Commission), a compliance filing pursuant to the Commission's order dated May 21, 2003, 103 FERC ?61,210 (2003).

Comment Date: August 27, 2003.

5. California Independent System Operator Corporation

[Docket No. ER00-2019-011]

Take notice that on July 25, 2003 the California Independent System Operator Corporation (ISO) tendered for filing revised tariff sheets in compliance with the Commission's Order on Rehearing of July 10, 2003, 104 FERC ¶ 61,062, in which the Commission held that certain transmission customers when they become Participating Transmission Owners served by certain generating facilities located “behind the meter” (i.e., not directly interconnected to the ISO Controlled Grid) should pay transmission Access Charges on a net load basis. ISO states that the revised tariff sheets are prospectively implementing this requirement.

Comment Date: August 15, 2003.

6. Indian River Power LLC

[Docket No. ER00-2807-001]

Take notice that on July 25, 2003, Indian River Power LLC tendered for filing its triennial rate review in compliance with the Commission's Order issued July 25, 2000 in Deepwater Power LLC, et al., Docket No. ER00-2805-000, et al.

Comment Date: August 15, 2003.

7. Vienna Power LLC

[Docket No. ER00-2808-001]

Take notice that on July 25, 2003, Vienna Power LLC tendered for filing its triennial rate review in compliance with the Commission's order issued July 25, 2000 in Deepwater Power LLC, et al., Docket No. ER00-2805-000, et al.

Comment Date: August 15, 2003.

8. Keystone Power LLC

[Docket No. ER00-2809-001]

Take notice that on July 25, 2003, Keystone Power LLC tendered for filing its triennial rate review in compliance with the Commission's order issued July 25, 2000 in Deepwater Power LLC, et al., Docket No. ER00-2805-000, et al.

Comment Date: August 15, 2003.

9. Conemaugh Power LLC

[Docket No. ER00-2810-001]

Take notice that on July 25, 2003, Conemaugh Power LLC tendered for filing its triennial rate review in compliance with the Commission's order issued July 25, 2000 in Deepwater Power LLC, et al., Docket No. ER00-2805-000, et al.

Comment Date: August 15, 2003.

10. Union Power Partners, L.P.

[Docket No. ER01-930-002]

Take notice that on July 25, 2003, Union Power Partners, L.P. filed with the Federal Energy Regulatory Commission a notice of change in status in connection with the transfer by Panda GS V, LLC and Panda GS VI, LLC of their respective interests in TECO-PANDA Generating Company, L.P. to TPS GP, Inc., and TPS LP, Inc.

Comment Date: August 15, 2003.

11. TECO-PANDA Generating Company, L.P.

[Docket No. ER02-1000-001]

Take notice that on July 25, 2003, TECO-PANDA Generating Company, L.P., filed with the Federal Energy Regulatory Commission a notice of change in status in connection with the transfer by Panda GS V, LLC and Panda GS VI, LLC of their respective interests in TECO-PANDA Generating Company, L.P. to TPS GP, Inc., and TPS LP, Inc.

Comment Date: August 15, 2003.

12. WPS Westwood Generation, LLC

[Docket No. ER02-2361-002]

Take notice that on July 24, 2003, WPS Westwood Generation, LLC (WPS Westwood) tendered for filing with the Federal Energy Regulatory Commission a refund compliance report required by Paragraph 3 of the Commission's June 6, 2003 Letter Order accepting WPS Westwood's settlement agreement in this proceeding. 103 FERC ¶ 61,298.

WPS Westwood states that copies of the filing were served upon the PJM Interconnection, LLC, the Pennsylvania Commission and the official service list in the above-captioned proceeding.

Comment Date: August 14, 2003.

13. American Electric Power Service Corporation

[Docket No. ER03-403-004]

Take notice that on July 25, 2003, American Electric Power Service Corporation (AEP), on behalf of Indiana Michigan Power Company, tendered for filing an Amended and Restated Interconnection and Operation Agreement between Indiana Michigan Power Company and South Shore Power, L.L.C. AEP states that the agreement is pursuant to the AEP Companies' Open Access Transmission Service Tariff (OATT) that has been designated as the Operating Companies of the American Electric Power System FERC Electric Tariff Third Revised Volume No. 6.

AEP requests an effective date of September 22, 2003. AEP states that the filing has been served upon the Indiana Utility Regulatory Commission and Michigan Public Service Commission.

Comment Date: August 15, 2003.

14. Niagara Mohawk Power Corporation

[Docket No. ER03-502-001]

Take notice that on July 24, 2003, in compliance with the Commission's Order issued on April 1, 2003, in Docket No. ER03-502-000 and pursuant to Section 205 of the Federal Power Act, 16 U.S.C. 824d, and part 35 of the Commission's regulations,18 CFR part 35, Niagara Mohawk Power Corporation, a National Grid Company (Niagara) submitted for filing:

(1) A revised Interconnection Facilities Agreement between

Niagara and Hydro One Networks Inc.; and

(2) A revised Interconnection Agreement between Niagara and Independent Electricity Market Operator.

Comment Date: August 14, 2003.

15. Moraine Wind LLC

[Docket No. ER03-951-001]

Take notice that on July 25, 2003, Moraine Wind LLC (Moraine Wind) filed amendments to its initial Market-Based Rate Schedule (the Schedule) filed with the Federal Energy Regulatory Commission (the Commission) on June 12, 2003. Moraine states that the amendments are made in accordance with the directive in the Commission's Order dated July 17, 2003, which required an amendment to the Schedule to conform to Commission precedent and practice regarding affiliate transactions (see 101 FERC ¶ 61,331).

Comment Date: August 15, 2003.

16. Exelon Framingham LLC; Exelon Mystic LLC; Exelon New Boston LLC; Exelon West Medway LLC

[Docket No. ER03-959-001]

Take notice that on July 25, 2003, Exelon Framingham LLC, Exelon Mystic LLC, Exelon New Boston LLC and Exelon West Medway LLC (the Exelon Companies) tendered for filing fixed cost information for their respective generating facilities. The Exelon Companies state that this fixed cost information relates to Peaking Unit Safe Harbor (PUSH) Reference Levels proposed by ISO New England Inc. (ISO-NE) for use regarding New England Power Pool Market Rule 1. The Exelon Companies request an effective date of June 1, 2003 for the preliminary PUSH Reference Levels, and an effective date of July 11, 2003 for the revised PUSH Reference Levels. The Exelon Companies request a waiver of all applicable Commission regulations to permit such effective date.

The Exelon Companies state that a copy of this submission has been provided to ISO-NE on the date of filing. The Exelon Companies also state that a copy of this submission has been mailed to each affected state regulatory authority.

Comment Date: August 15, 2003.

17. New England Power Pool

[Docket No. ER03-1111-000]

Take notice that on July 24, 2003, the New England Power Pool (NEPOOL) Participants Committee filed to terminate the membership of Quinnipiac Energy, LLC (Quinnipiac) in NEPOOL. The Participants Committee requests a September 1, 2003 effective date for the termination of the Participant status of Quinnipiac.

The Participants Committee states that copies of these materials were sent to the New England state governors and regulatory commissions and the Participants in NEPOOL.

Comment Date: August 14, 2003.

18. Avista Corporation

[Docket No. ER03-1112-000]

Take notice that on July 24, 2003, Avista Corporation (Avista) tendered for filing Amendatory Agreement No. 1 to the 1997 Pacific Northwest Coordination Agreement (the 1997 PNCA).

Avista states that Amendatory Agreement No. 1 amends the 1997 PNCA. Avista also states that a copy of the filing was served upon the parties to the 1997 PNCA.

Comment Date: August 14, 2003.

19. Carolina Power & Light Company

[Docket No. ER03-1113-000]

Take notice that on July 24, 2003, Carolina Power & Light Company, doing business as Progress Energy Carolinas, Inc. (CP&L), tendered for filing an executed Network Integration Transmission Service Agreement (NITSA) including an executed Network Operating Agreement (collectively, Integrated NITSA) between CP&L and the Fayetteville Public Works Commission (FPWC).

CP&L requests that the Commission accept the Integrated NITSA for filing and make it effective on July 1, 2003, the date on which service began. CP&L states that copies of the filing were served upon FPWC and the North Carolina Utilities Commission.

Comment Date: August 14, 2003.

20. Carville Energy LLC

[Docket No. ER03-1114-000]

Take notice that on July 24, 2003, Carville Energy LLC tendered for filing, under Section 205 of the Federal Power Act, a rate schedule for reactive power from the Carville Energy Center.

Comment Date: August 14, 2003.

21. Pacific Gas and Electric Company

[Docket No. ER03-1115-000]

Take notice that on July 25, 2003, Pacific Gas and Electric Company (PG&E) tendered for filing a Revised Generator Special Facilities Agreement (GSFA), Supplemental Letter Agreement, and Generator Interconnection Agreement (GIA) between PG&E and Elk Hills Power, LLC (Elk Hills).

PG&E states that the GSFA and Supplemental Letter Agreement permit PG&E to recover the ongoing costs associated with owning, operating and maintaining the Special Facilities for Elk Hills. PG&E states that the GIA provides terms and conditions for filling, operation, maintenance and metering.

PG&E states that copies of this filing have been served upon Elk Hills, the California Independent System Operator Corporation and the CPUC.

Comment Date: August 15, 2003.

22. PJM Interconnection, L.L.C.

[Docket No. ER03-1117-000]

Take notice that on July 25, 2003, PJM Interconnection, L.L.C. (PJM), submitted for filing amendments to the Amended and Restated Operating Agreement of PJM Interconnection, L.L.C. to establish a new Default Allocation Assessment to replace the Weighted Interest formula as the basis for determining the amount that PJM may assess and collect from a PJM member when another PJM member defaults.

PJM requests waiver of the Commission's notice provisions to permit an effective date of July 26, 2003. PJM states that copies of this filing have been served on all PJM members, and each state electric utility regulatory commission in the PJM region.

Comment Date: August 15, 2003.

23. Midwest Independent Transmission System Operator, Inc.

[Docket No. ER03-1118-000]

Take notice that on July 25, 2003, the Midwest Independent Transmission System Operator, Inc. (Midwest ISO) submitted, in its entirety, a Third Revised, Volume No. 1, of its Open Access Transmission and Energy Markets Tariff (TEMT) in compliance with the Commission's February 24, 2003 Declaratory Order, 102 FERC ¶ 61,196. Midwest ISO states that the TEMT includes those terms and conditions necessary for the implementation of the Midwest ISO's Day-Ahead and Real-Time Energy Markets (Energy Markets) and congestion management provisions based on Locational Marginal Prices and Financial Transmission Rights. Midwest ISO also states in addition, the TEMT contains revisions that are necessary for the implementation of the new Energy Markets and congestion management within the Midwest ISO region. The Midwest ISO has requested an effective date of March 31, 2004.

The Midwest ISO has also requested waivers of the service requirements set forth in 18 CAR 385.2010. The Midwest ISO states it has electronically served a copy of this filing, with attachments, upon all Midwest ISO Members, Member representatives of Transmission Owners and Non-Transmission Owners, the Midwest ISO Advisory Committee participants, Policy Subcommittee participants, as well as all state commissions within the region. In addition, Midwest ISO indicates that the filing has been electronically posted on the Midwest ISO's Web site at www.midwestiso.org under the heading “Filings to FERC.” for other interested parties in this matter. The Midwest ISO states that it will provide hard copies to any interested parties upon request.

Comment Date: August 15, 2003.

24. California Independent System Operator Corporation

[Docket No. ER03-1119-000]

Take notice that on July 25, 2003, the California Independent System Operator Corporation (ISO), tendered for filing Amendment No. 1 to the Metered Subsystem Aggregator Agreement between the ISO and Northern California Power Agency (NCPA) for acceptance by the Commission. The ISO is requesting waiver of the 60-day notice requirement to allow Amendment No.1 to the Metered Subsystem Aggregator Agreement to be made effective August 1, 2003.

The ISO states that this filing has been served upon all parties on the official service list in Docket No. ER02-2321-000.

Comment Date: August 15, 2003.

25. Florida Power & Light Company

[Docket Nos. OA03-9-000 and OA03-10-000]

Take notice that on July 25, 2003, Florida Power & Light Company (Applicant) filed with the Federal Energy Regulatory Commission (Commission) on behalf of Applicant's New England Division (FPL NED) a request for order confirming that it has complied with the requirements of Order No. 888 by placing its transmission facilities in New England under the control of the New England Independent System Operation. Applicant also requested an order confirming that FPL NED's standards of conduct submitted with its pleading comply with the requirements of Order No. 889.

Comment Date: August 25, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. 03-19971 Filed 8-5-03; 8:45 am]

BILLING CODE 6717-01-P